ENVIRONMENTAL PROTECTION AGENCY

[EPA-HQ-RCRA-2011-0280; FRL-9524-2]

Information Collection Request Submitted to OMB for Review and Approval; Comment Request; 2013 Hazardous Waste Report, Notification of Regulated Waste Activity, and Part A Hazardous Waste Permit Application and Modification (Revision)

AGENCY: Environmental Protection Agency (EPA).

ACTION: Notice.

SUMMARY: The Environmental Protection Agency has submitted an information collection request (ICR), “2013 Hazardous Waste Report, Notification of Regulated Waste Activity, and Part A Hazardous Waste Permit Application and Modification (Revision)”. (EPA ICR No. 0976.16, OMB Control No. 2050-0024) to the Office of Management and Budget (OMB) for review and approval in accordance with the Paperwork Reduction Act (44 U.S.C. 3501 et seq.). This is a proposed amendment of the ICR, which is currently approved through December 31, 2014. Public comments were previously requested via the Federal Register (77 FR 31005) on May 24, 2012 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 17, 2012.

ADDRESSES: Submit your comments, referencing Docket ID No. EPA-HQ-RCRA-2011-0280, to (1) EPA, either online using www.regulations.gov (our preferred method), or by email to rcra-docket@epa.gov, or by mail to: EPA Docket Center, Environmental Protection Agency, Mail Code 28221T, 1200 Pennsylvania Avenue NW., Washington, DC 20460; and (2) OMB via email to oira_submission@omb.eop.gov. Address comments to OMB Desk Officer for EPA.

FOR FURTHER INFORMATION CONTACT: Peggy Vyas, Environmental Protection Agency, 1200 Pennsylvania Ave. NW., Washington, DC 20460; telephone number: 703-308-5477; fax number: 703-308-8433; email address: vyas.peggy@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The Hazardous Waste Report Instructions and Forms booklet is updated every two years, to comply with the statutory mandate that EPA conduct a survey of hazardous waste generation at least every two years. The report, known as the “Biennial Report,” has been conducted since 1989, every odd-numbered year, known as the data collection year. The even-numbered years are known as the reporting years. The ICR has been renewed every data collection year, and the forms have been made available to respondents at the beginning of the reporting year. However, EPA is amending the current ICR this year so that the booklet for the next cycle, the 2013 cycle, will be available at the beginning of the data collection year. This change is in response to many requests by States.

The proposed changes to the 2013 booklet include: (1) Some management method codes will be consolidated in order to ease reporting, (2) the waste minimization codes will be revised in order to assist filers with reporting their waste minimization activities, and (3) editorial changes will be made to the description of some source codes in order to improve clarity for filers.

This amendment will not affect the Notification booklet or the Part A Permit Application booklet, which are both part of this ICR.

Form Numbers: 8700-13 A/B.

Respondents/affected entities: Business or other for-profit as well as State, Local, or Tribal governments.

Respondent's obligation to respond: mandatory (RCRA sections 3002 and 3004).

Estimated number of respondents: 56,672.

Frequency of response: Biennially.

Total estimated burden: 432,903 hours per year. Burden is defined at 5 CFR 1320.03(b).

Total estimated cost: $18,404,963 (per year), includes $18,153,496 annualized labor and $251,467 annualized capital or operation & maintenance costs.

Changes in the Estimates: There is a decrease of 7,341 hours in the total estimated respondent burden compared with the ICR currently approved by OMB. This decrease is due to changes in the waste minimization data reported in Form GM (i.e., use of a revised set of waste minimization codes for which the requirement to submit comments is optional).

John Moses,
Director, Collection Strategies Division.

[FR Doc. 2012-27788 Filed 11-14-12; 8:45 am]

BILLING CODE 6560-50-P